DEPARTMENT OF HEALTH AND HUMAN SERVICES

Centers for Disease Control and Prevention

[Program Announcement 04097]

Role of the Environment in the Transmission of SARS Co-v; Notice of Intent To Fund Single Eligibility Award

A. Purpose

The Centers for Disease Control and Prevention (CDC) announces the intent to fund fiscal year (FY) 2004 funds for a cooperative agreement program to address several outstanding questions regarding the role of the environment in SARS transmission and to provide important information about pathogen transmission in isolation facilities, appropriate cleaning procedures, and appropriate procedures for donning/removal of personal protective equipment. The Catalog of Federal Domestic Assistance number for this program is 93.283.

B. Eligible Applicant

Assistance will be provided only to the University of North Carolina.

• Experience of UNC Staff

It is in the best interest of CDC to utilize the expertise of Drs. Sobsey, Weber and Rutala from the University of North Carolina, who have combined, over 80 years of experience in microbial inactivation studies using a wide range of microorganisms, including a wide range of viruses.

The UNC BSL3 laboratory is shared with Dr. Ralph Baric, who has spent the last twenty years studying how coronaviruses are transmitted among species. Dr. Baric currently has research support form the National Institutes of Health for a variety of research projects involving SARS. Thus, UNC has the unique opportunity to collaborate with Dr. Baric, one of the world's experts in coronaviruses.

Lastly, UNC has a cadre of researchers that are well trained in microbial inactivation studies and have published several hundred papers on this subject.

• Urgency of the Need to Address the SARS Co-v Research Questions

The emergence of severe acute respiratory syndrome (SARS) produced an international health emergency in the late winter and into early spring in 2003. By early July there were an estimated 8,439 probable cases and 812 deaths from severe acute respiratory syndrome (SARS) identified from 30 countries (URL: http://www.who.int/csr/sars/en/). A newly described coronavirus SARS-CoV was implicated. SARS outbreaks were reported in China (Beijing, Guandong, and Hong Kong), Vietnam (Hanoi), Singapore, Taiwan, and Canada (Toronto). During the outbreak SARS-CoV was being transmitted both in the community and in the healthcare facilities.

• Immediate Availability of BSL3 Laboratory

The University of North Carolina BSL3 laboratory is now available to conduct the research. This will enable a timely response to research questions regarding how long infectious virus can persist on common hospital environmental surfaces, wastewater, etc., or the role of personal protective equipment for protecting health-care workers. While other institutions may have BSL3 capability, the facilities are usually restricted to use with a limited number of infectious agents. For example, a facility conducting work on Mycobacterium tuberculosis would not use the same BSL3 facility for working with coronaviruses, since disinfection schemes would be different, and the necessity for cell culture materials and unique pieces of equipment would likely require remodeling. A facility such as that at UNC that is already equipped to work with coronoaviruses saves considerable expense in retooling a BSL3 to work with this virus.

C. Funding

Approximately $500,000 is available in FY 2004 to fund this award. It is expected that the award will begin on or before July, 2004, and will be made for a 18 month budget period within a project period of up to 18 months. Funding estimates may change.

D. Where To Obtain Additional Information

For general comments or questions about this announcement, contact: Technical Information Management, CDC Procurement and Grants Office, 2920 Brandywine Road, Atlanta, GA 30341-4146, Telephone: 770-488-2700.

For technical questions about this program, contact: Matthew Arduino, Dr.P.H., Extramural Project Officer, Division of Healthcare Quality Promotion, Epidemiology and Laboratory Branch, NCID, 1600 Clifton Road, NE. Building 17, Room 4211 C-16, Telephone: (404) 639-2318, E-mail: MAarduino@cdc.gov.

Dated: June 3, 2004.
William P. Nichols,
Acting Director, Procurement and Grants Office, Centers for Disease Control and Prevention.

[FR Doc. 04-13003 Filed 6-8-04; 8:45 am]

BILLING CODE 4163-18-P